TENNESSEE VALLEY AUTHORITY

Meeting of the Regional Energy Resource Council

AGENCY: Tennessee Valley Authority (TVA).

ACTION: Notice of meeting.

SUMMARY: The TVA Regional Energy Resource Council (RERC) has scheduled a meeting to discuss the 2019 IRP development process, develop the RERC's 2019 IRP recommendation, and identify the challenges and opportunities faced by TVA in developing the 2019 IRP. The RERC was established to advise TVA on its energy resource activities and the priority to be placed among competing objectives and values. Notice of this meeting is given under the Federal Advisory Committee Act (FACA). Members of the TVA Board of Directors also plan to attend portions of this meeting.

DATES: The meeting will be held on Wednesday, June 26, 2019, from 12:45 p.m. to 6:00 p.m., EDT, and Thursday, June 27, 2019, from 8:30 a.m. to 2:30 p.m., EDT.

ADDRESSES: The meeting will be held at The Read House Hotel, 107 West MLK Boulevard, Chattanooga, Tennessee 37402. An Individual requiring special accommodation for a disability should let the contact below know at least a week in advance.

FOR FURTHER INFORMATION CONTACT: Liz Upchurch, 865-632-8305, efupchurch@tva.gov.

SUPPLEMENTARY INFORMATION: The meeting agenda includes the following:

1. Introductions

2. Overview of the 2019 IRP development process

3. Key steps in moving to a final IRP recommendation

4. A panel discussion on challenges and opportunities identified by the 2019 IRP

5. Public input session

6. Council Discussion and Advice

The RERC, along with members of TVA's Board of Directors, will hear opinions and views of citizens during a public session starting at 5:00 p.m., EDT, lasting up to one hour, on Wednesday, June 26, 2019. Persons wishing to speak are requested to register at the door between 12:45 p.m. and 3:15 p.m., EDT, on Wednesday, June 26, 2019, and will be called on during the public session. For registered speakers, TVA will set time limits for providing oral comments. Handout materials should be limited to one printed page. Any member of the public is also permitted to leave a written statement with the Council after or in lieu of the member's oral presentation.

Dated: June 4, 2019.
Joseph J. Hoagland,
Vice President, Enterprise Relations and Innovation, Tennessee Valley Authority.

[FR Doc. 2019-12243 Filed 6-10-19; 8:45 am]

BILLING CODE 8120-08-P